NATIONAL FOUNDATION OF THE ARTS AND THE HUMANITIES

Institute of Museum and Library Services

48th Meeting of the National Museum and Library Services Board

AGENCY: Institute of Museum and Library Services (IMLS), National Foundation of the Arts and the Humanities (NFAH).

ACTION: Notice of Meeting.

SUMMARY: Pursuant to the Federal Advisory Committee Act, notice is hereby given that the National Museum and Library Services Board will meet to advise the Director of the Institute of Museum and Library Services (IMLS) with respect to duties, powers, and authority of IMLS relating to museum, library, and information services, as well as coordination of activities for the improvement of these services.

DATES: The meeting will be held on December 13, 2023, from 9 a.m. Mountain Time until adjourned.

ADDRESSES: The meeting will convene in a hybrid format. Virtual meeting and audio conference technology will be used to connect virtual attendees with in-person attendees. Instructions for joining will be sent to all registrants. In-person attendees will meet in the Phoenix Metropolitan Area at a to-be-announced location. Due to room-capacity limitations, members of the public who wish to join in-person must inform IMLS by November 27, 2023.

FOR FURTHER INFORMATION CONTACT: Katherine Maas, Chief of Staff and Alternate Designated Federal Officer, Institute of Museum and Library Services, Suite 4000, 955 L'Enfant Plaza North SW, Washington, DC 20024; (202) 653-4798; kmaas@imls.gov.

SUPPLEMENTARY INFORMATION: The National Museum and Library Services Board is meeting pursuant to the National Museum and Library Service Act, 20 U.S.C. 9105a, and the Federal Advisory Committee Act (FACA), as amended, 5 U.S.C. App.

The 48th Meeting of the National Museum and Library Services Board, which is open to the public, will convene at 9 a.m. Mountain Standard Time on December 13, 2023.

The agenda for the 48th Meeting of the National Museum and Library Services Board will be as follows:

I. Call to Order

II. Approval of Minutes of the 47th Meeting

III. Director's Welcome and Update

IV. Board Program—Guest Speaker

V. Tribal Engagement

VI. Literacy Convening and Future Planning

VII. Information Literacy Initiative

If you wish to attend the meeting, please inform IMLS as soon as possible, but no later than close of business on December 6, 2023, by contacting Katherine Maas at kmaas@imls.gov. Due to room-capacity limitations, members of the public who wish to join in-person must inform IMLS of this intention by November 27, 2023. Virtual meeting information will be sent to all public registrants. Please provide notice of any special needs or accommodations by November 27, 2023.

Dated: November 4, 2023.
Brianna Ingram,
Paralegal Specialist.

[FR Doc. 2023-24775 Filed 11-8-23; 8:45 am]

BILLING CODE 7036-01-P